DEPARTMENT OF COMMERCE

International Trade Administration

[C-570-980]

Crystalline Silicon Photovoltaic Cells, Whether or Not Assembled Into Modules, From the People's Republic of China: Preliminary Results of Countervailing Duty Administrative Review and Intent To Rescind, in Part; 2019

AGENCY: Enforcement and Compliance, International Trade Administration, Department of Commerce.

SUMMARY: The Department of Commerce (Commerce) preliminarily determines that countervailable subsidies were provided to producers and exporters of crystalline silicon photovoltaic cells, whether or not assembled into modules, (solar cells) from the People's Republic of China (China) during the period of review (POR), January 1, 2019, through December 31, 2019. In addition, we intend to rescind this review with respect to 48 companies. We invite interested parties to comment on these preliminary results.

DATES: Applicable January 6, 2022.

FOR FURTHER INFORMATION CONTACT: Robert Copyak, Chien-Min Yang, or Lingjun Wang, AD/CVD Operations, Office VII, Enforcement and Compliance, International Trade Administration, U.S. Department of Commerce, 1401 Constitution Avenue NW, Washington, DC 20230; telephone: (202) 482-3642, (202) 482-5484, or (202) 482-2316.

SUPPLEMENTARY INFORMATION:

Background

On February 4, 2021, Commerce initiated this administrative review of the countervailing duty (CVD) order on solar cells from China on 83 companies.¹ On July 23, 2021, we partially rescinded this review with respect to eleven companies for which the requests for review were withdrawn by the requesting parties within 90 days of the date of publication of the notice of initiation in accordance with 19 CFR 351.213(d)(1).² Therefore, this review now covers 72 companies, of which JA Solar Technology Yangzhou Co., Ltd. (JA Solar) and Risen Energy Co., Ltd. (Risen) are the mandatory respondents.

¹ See Initiation of Antidumping and Countervailing Duty Administrative Reviews, 86 FR 8166 (February 4, 2021).

² See Crystalline Silicon Photovoltaic Cells, Whether or Not Assembled Into Modules from the People's Republic of China: Partial Rescission of Countervailing Duty Administrative Review; 2019, 86 FR 38978 (July 23, 2021).

On July 30, September 2, and December 6, 2021, Commerce extended the time limit for completion of these preliminary results until no later than December 30, 2021.³

³ See Memorandum, “Extension of Deadline for the Preliminary Results of Countervailing Duty Administrative Review,” dated July 30, 2021; see also Memorandum, “Extension of the Deadline for Preliminary Results,” dated September 2, 2021; and Memorandum, “Extension of Time Limit for the Preliminary Results,” dated December 6, 2021.

For a complete description of the events that followed the initiation of this review, see the Preliminary Decision Memorandum.⁴ A list of topics discussed in the Preliminary Decision Memorandum is provided in an appendix to this notice. The Preliminary Decision Memorandum is a public document and is on file electronically via Enforcement and Compliance's Antidumping and Countervailing Duty Centralized Electronic System (ACCESS). ACCESS is available to registered users at http://access.trade.gov. In addition, a complete version of the Preliminary Decision Memorandum can be accessed directly at https://access.trade.gov/public/FRNoticesListLayout.aspx.

⁴ See Memorandum, “Decision Memorandum for the Preliminary Results of the Administrative Review of the Countervailing Duty Order on Crystalline Silicon Photovoltaic Cells, Whether or Not Assembled Into Modules, from the People's Republic of China; 2019,” dated concurrently with, and hereby adopted by, this notice (Preliminary Decision Memorandum).

Scope of the Order

The products covered by this order are crystalline silicon photovoltaic cells, and modules, laminates, and panels, consisting of crystalline silicon photovoltaic cells, whether or not partially or fully assembled into other products, including, but not limited to, modules, laminates, panels, and building integrated materials. For a complete description of the scope of this order, see the Preliminary Decision Memorandum.

Intent To Rescind Review, in Part

In accordance with 19 CFR 351.213(d)(3), we intend to rescind this review with respect to 48 other companies for which we find no reviewable suspended entries of subject merchandise, based on U.S. Customs and Border Protection (CBP) data. See Appendix III for a complete list of those companies.

Trina Solar Energy Co., Ltd. (formerly, Changzhou Trina Solar Energy Co., Ltd.) and its cross-owned companies (collectively, Trina) certified that they had no sales of subject merchandise during the POR and requested rescission of the review.⁵ However, the CBP entry data on the record show shipments made by these companies during the POR. Thus, we have requested entry information from CBP regarding these shipments. Upon receipt from CBP, we will place the information on the record, provide an opportunity for interested parties to comment, and then determine whether to rescind the review for these companies.

⁵ See Trina's Letter, “Notice of No Sales,” dated March 5, 2021. The Trina companies for which rescission of review was requested are: Changzhou Trina Solar Energy Co., Ltd., Changzhou Trina Solar Yabang Energy Co. Ltd., Hubei Trina Solar Energy Co. Ltd., Trina Solar Co., Ltd., Trina Solar (Changzhou) Science and Technology Co., Ltd., Turpan Trina Solar Energy Co., Ltd., and Yancheng Trina Solar Energy Technology Co., Ltd.

Methodology

Commerce is conducting this administrative review in accordance with section 751(a)(1)(A) of the Tariff Act of 1930, as amended (the Act). For each of the subsidy programs preliminarily found to be countervailable, Commerce preliminarily finds that there is a subsidy, i.e., a financial contribution from an authority that gives rise to a benefit to the recipient, and that the subsidy is specific.⁶ For a full description of the methodology underlying our preliminary conclusions, including our reliance, in part, on facts available with adverse inferences pursuant to sections 776(a) and (b) of the Act, see the Preliminary Decision Memorandum.

⁶ See sections 771(5)(B) and (D) of the Act regarding financial contribution; section 771(5)(E) of the Act regarding benefit; and section 771(5A) of the Act regarding specificity.

Preliminary Rate for Non-Selected Companies Under Review

There are 12 companies for which a review was requested, which had reviewable entries, and which were not selected as mandatory respondents or found to be cross-owned with a mandatory respondent. See Appendix II. For these companies, because the rates calculated for the mandatory respondents, JA Solar and Risen, were above de minimis and not based entirely on facts available, we are applying to the non-selected companies the simple-average of the net subsidy rates calculated for JA Solar and Risen, which we calculated using the publicly ranged sales data submitted by those respondents. This methodology is consistent with our practice for establishing an all-others rate pursuant to section 705(c)(5)(A) of the Act.⁷

⁷ See Truck and Bus Tires from the People's Republic of China: Preliminary Results of Countervailing Duty Administrative Review, and Rescission of Review, in Part; 2019, 86 FR 33644 (June 25, 2021).

Preliminary Results of Review

Commerce preliminarily determines the net countervailable subsidy rates for the period January 1, 2019, through December 31, 2019, are as follows:

Company | Subsidy rate (percent)
JA Solar Technology Yangzhou Co., Ltd. (JA Solar) | 18.49
Risen Energy Co., Ltd. (Risen) ⁸ | 15.71
Non-Selected Companies Under Review ⁹ | 17.10

Disclosure and Public Comment

⁸ This rate applies to Risen Energy Co., Ltd. and its cross-owned companies: Zhejiang Boxin Investment Co., Ltd., JiuJiang Shengchao Xinye Technology Co., Ltd., Changzhou Sveck New Material Technology Co., Ltd., Risen (Luoyang) New Energy Co., Ltd., Risen (Wuhai) New Energy Co., Ltd., Ninghai Risen Energy Power Development Co., Ltd., Jiangsu Sveck New Material Co., Ltd., Changzhou Sveck Photovoltaic New Material Co., Ltd., Risen Energy (Changzhou) Co., Ltd., Risen Energy (Yiwu) Co., Ltd., Zhejiang Twinsel Electronic Technology Co., Ltd., Risen (Ningbo) Electric Power Development Co., Ltd.

⁹ See Appendix II of this notice for a list of all companies that remain under review but were not selected for individual examination and to which Commerce has preliminarily assigned the non-selected company rate.

We will disclose to the parties to this proceeding the calculations performed in reaching the preliminary results within five days of publication of these preliminary results.¹⁰ Case briefs, or other written comments, may be submitted to the Assistant Secretary for Enforcement and Compliance at a date to be determined. Rebuttal comments (rebuttal briefs), limited to issues raised in case briefs, may be filed within seven days after the time limit for filing case briefs.¹¹ Parties who submit arguments are requested to submit with each argument: (1) A statement of the issue; (2) a brief summary of the argument; and (3) a table of authorities.¹² All briefs must be filed electronically using ACCESS. Note that Commerce has temporarily modified certain of its requirements for serving documents containing business proprietary information until further notice.¹³

¹⁰ See 19 CFR 351.224(b).

¹¹ See Temporary Rule Modifying AD/CVD Service Requirements Due to COVID-19; Extension of Effective Period, 85 FR 41363 (July 10, 2020) (Temporary Rule).

¹² See 19 CFR 351.309(c)(l)(ii) and 351.309(d)(l).

¹³ See Temporary Rule.

Pursuant to 19 CFR 351.310(c), interested parties who wish to request a hearing must submit a written request to the Assistant Secretary for Enforcement and Compliance, filed electronically via ACCESSS by 5:00 p.m. Eastern Time within 30 days of the publication date of this notice.¹⁴ Hearing requests should contain: (1) The party's name, address, and telephone number; (2) the number of participants; and (3) a list of the issues to be discussed. Issues addressed at the hearing will be limited to those raised in the briefs. If a request for a hearing is made, Commerce intends to hold the hearing at a time and date to be determined. Parties should confirm the date and time of the hearing two days before the schedule date.

¹⁴ See 19 CFR 351.310(c).

Parties are reminded that briefs and hearing requests are to be filed electronically and received successfully in their entirety through ACCESS by 5:00 p.m. Eastern Time on the due date.

Assessment Rates

Pursuant to 751(a)(2)(C) of the Act, upon issuance of the final results, Commerce shall determine, and CBP shall assess, countervailing duties on all appropriate entries of subject merchandise in accordance with the final results. If the assessment rate calculated in the final results in zero or de minimis, we will instruct CBP to liquidate all appropriate entries without regard to countervailing duties. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirement

In accordance with section 751(a)(2)(C) of the Act, Commerce intends, upon publication of the final results, to instruct CBP to collect cash deposit of estimated countervailing duties in the amounts shown for each of the respective companies listed above, except, where the rate calculated in the final results is de minimis, no cash deposit will be required on shipments of the subject merchandise entered or withdrawn from warehouse, for consumption on or after the date of publication of the final results of this review. For all non-reviewed firms, we will instruct CBP to continue to collect cash deposits at the most-recent company-specific or all-others rate applicable to the company, as appropriate. These cash deposit requirements, when imposed, shall remain in effect until further notice.

Final Results of Review

Commerce intends to issue the final results of this administrative review, including the results of our analysis of the issues raised by the parties in their comments, no later than 120 days after the date of publication of this notice, pursuant to section 751(a)(3)(A) of the Act and 19 CFR 351.213(h)(1), unless this deadline is extended.

Notification to Interested Parties

These preliminary results are issued and published pursuant to sections 751(a)(l) and 777(i)(l) of the Act, and 19 CFR 351.213 and 351.221(b)(4).

Dated: December 30, 2021.
Ryan Majerus,
Deputy Assistant Secretary, for Policy and Negotiations, performing the non-exclusive functions and duties of the Assistant Secretary for Enforcement and Compliance.

Appendix I

List of Topics Discussed in the Preliminary Decision Memorandum

I. Summary

II. Background

III. Period of Review

IV. Intent To Rescind Review, in Part

V. Rate for Non-Selected Companies Under Review

VI. Scope of the Order

VII. Diversification of China's Economy

VIII. Subsidies Valuation

IX. Interest Rate Benchmarks, Discount Rates, Benchmarks for Measuring Adequacy of Remuneration

X. Use of Facts Otherwise Available and Application of Adverse Inferences

XI. Analysis of Programs

XII. Recommendation

Appendix I—Grant Programs Preliminarily Determined to be Not Used by JA Solar and Risen During the POR

Appendix II—Programs Preliminarily Determined Not to Confer a Measurable Benefit to JA Solar and Risen During the POR

Appendix II

Non-Selected Companies Under Review

1: Canadian Solar International Limited

2: Canadian Solar Manufacturing (Changshu) Inc.

3: Canadian Solar Manufacturing (Luoyang) Inc.

4: Chint Solar (Zhejiang) Co., Ltd.

5: CSI Cells Co., Ltd.

6: CSI-GCL Solar Manufacturing (Yancheng) Co., Ltd.

7: Hengdian Group DMEGC Magnetics Co., Ltd.

8: Jinko Solar Co., Ltd.

9: Jinko Solar Import and Export Co., Ltd.

10: LONGi Solar Technology Co., Ltd.

11: Suntech Power Co., Ltd.

12: Yingli Energy (China) Co., Ltd.

Appendix III

Intent To Rescind Review, in Part

1. Astronergy Co., Ltd.

2. Astronergy Solar

3. Baoding Jiasheng Photovoltaic Technology Co., Ltd.

4. Baoding Tianwei Yingli New Energy Resources Co., Ltd.

5. Boviet Solar Technology Co., Ltd.

6. BYD (Shangluo) Industrial Co., Ltd.

7. Chint New Energy Technology (Haining) Co., Ltd.

8. Chint Solar (Hong Kong) Company Limited

9. Chint Solar (Jiuquan) Co., Ltd.

10. CSI Modules (Dafeng) Co., Ltd.

11. DelSolar (Wujiang) Ltd.

12. DelSolar Co., Ltd.

13. De-Tech Trading Limited HK

14. Dongguan Sunworth Solar Energy Co., Ltd.

15. Eoplly New Energy Technology Co., Ltd.

16. ERA Solar Co., Ltd.

17. ET Solar Energy Limited

18. Fuzhou Sunmodo New Energy Equipment Co., Ltd.

19. GCL System Integration Technology Co. Ltd

20. Hainan Yingli New Energy Resources Co., Ltd.

21. Hangzhou Sunny Energy Science and Technology Co., Ltd.

22. Hengshui Yingli New Energy Resources Co., Ltd.

23. Jiangsu High Hope Int'l Group

24. Jinko Solar International Limited

25. JinkoSolar Technology (Haining) Co., Ltd.

26. LERRI Solar Technology Co., Ltd.

27. LightWay Green New Energy Co., Ltd.

28. Lixian Yingli New Energy Resources Co., Ltd.

29. Longi (HK) Trading Ltd.

30. Ningbo ETDZ Holdings, Ltd.

31. ReneSola Jiangsu Ltd.

32. Renesola Zhejiang Ltd.

33. Shenzhen Yingli New Energy Resources Co., Ltd.

34. Sumec Hardware & Tools Co., Ltd.

35. Sunpreme Solar Technology (Jiaxing) Co., Ltd.

36. Suntimes Technology Co., Limited

37. Systemes Versilis, Inc.

38. Taimax Technologies Inc.

39. Talesun Energy

40. Talesun Solar

41. tenKsolar (Shanghai) Co., Ltd.

42. Tianjin Yingli New Energy Resources Co., Ltd.

43. Tianneng Yingli New Energy Resources Co., Ltd.

44. Toenergy Technology Hangzhou Co., Ltd.

45. Yingli Green Energy International Trading Company Limited

46. Zhejiang ERA Solar Technology Co., Ltd.

47. Zhejiang Jinko Solar Co., Ltd.

48. Zhejiang Sunflower Light Energy Science & Technology Limited Liability Company

[FR Doc. 2022-00021 Filed 1-5-22; 8:45 am]

BILLING CODE 3510-DS-P